DEPARTMENT OF HEALTH AND HUMAN SERVICES

Centers for Disease Control and Prevention

Rescission of Embargo Prohibiting the Importation of All Members of the Family Viverridae (Civets, Genets, Binturong, and Other Family Viverridae) Into the United States.

AGENCY: Centers for Disease Control and Prevention (CDC), Department of Health and Human Services (HHS).

ACTION: Notice.

SUMMARY: Based on a review of existing import requirements, CDC has determined that the import requirements for civets (Family: Viverridae) are no longer necessary to protect the public's health and should therefore be rescinded. Accordingly, effective immediately, CDC is rescinding its embargo on the importation of civets (Family: Viverridae).

DATES: CDC's embargo of civets (Family: Viverridae) is rescinded on August 22, 2025.

FOR FURTHER INFORMATION CONTACT: Ashley C. Altenburger, J.D., Division of Global Migration Health, Centers for Disease Control and Prevention, U.S. Department of Health and Human Services, 1600 Clifton Road NE, MS H16-4, Atlanta, Georgia 30329; telephone 1-800-232-4636. For information regarding CDC operations and CDC-regulated importations, please contact: Dr. Mark E. Laughlin, D.V.M., Division of Global Migration Health, Centers for Disease Control and Prevention, U.S. Department of Health and Human Services, 1600 Clifton Road NE, MS H16-4, Atlanta, Georgia 30329; telephone 1-800-232-4636.

SUPPLEMENTARY INFORMATION: CDC is rescinding its embargo on the importation of civets (Family: Viverridae). In keeping with its public health practice of reviewing the status of potential public health threats at U.S. ports of entry, the U.S. Centers for Disease Control and Prevention (CDC) within the U.S. Department of Health and Human Services (HHS), concluded, for the reasons outlined below, that importation restrictions for civets no longer serve the interests of public health and should therefore be rescinded. Specifically, CDC has determined that the marginal public health benefit of this long-standing embargo does not outweigh the potential burden on importers.

Executive Order 14192 of January 31, 2025 on “Unleashing Prosperity Through Deregulation” requires that any new incremental costs associated with certain significant regulatory actions “shall, to the extent permitted by law, be offset by the elimination of existing costs associated with at least 10 prior regulations.” This notice, which rescinds an existing import requirement, meets the criteria of a “deregulatory action” under Executive Order 14192.

1. Background

On January 23, 2004, after the publication of scientific articles identifying civets as a possible link in human infection with severe acute respiratory syndrome (SARS)-coronavirus in China, CDC published a notice of embargo in the Federal Register (69 FR 3364) prohibiting the importation of civets (and all members of Family: Viverridae) into the U.S. under 42 CFR 71.32(b). SARS is a viral respiratory disease of zoonotic origin caused by the virus SARS-CoV-1, the first identified strain of the SARS-related coronavirus.¹ This action followed the 2003 global outbreak of SARS which was contained only after extraordinary global effort and the addition of SARS to the list of diseases for which the federal government can isolate or quarantine individuals.² Currently, there is no known effective treatment for SARS.

¹ Al-Juhaishi, Atheer Majid Rashid; Aziz, Noor D. (12 September 2022). “Safety and Efficacy of antiviral drugs against covid-19 infection: an updated systemic review”. Medical and Pharmaceutical Journal. 1 (2): 45-55. doi:10.55940/medphar20226. ISSN 2957-6067. S2CID 252960321. Archived from the original on 20 February 2023.

² The current list of quarantinable communicable diseases is contained in Executive Order 13295 (April 4, 2003) as amended by Executive Order 13375 (April 1, 2005), Executive Order 13674 (July 31, 2014), and Executive Order 14047 (Sept. 17, 2021).

2. Rationale for Recission

Current and reliable scientific evidence indicates that civets are not a reservoir host for the virus SARS-CoV-1. In fact, findings have demonstrated that SARS-CoV-1 originated in horseshoe bats and only later entered the human and civet populations.³ Through genomic analysis, scientists have shown that the SARS-CoV-1 strain found in horseshoe bats most clearly exemplifies SARS-CoV-1 before it entered the human population. This finding establishes the sequence of transfer from horseshoe bats to humans and then to civets.⁴ Although scientists do not yet understand how SARS-CoV-1 is transmitted from bats to humans, it is evident that civets are not the reservoir host for SARS-CoV-1. ⁵ There is also some genomic evidence that civets contract SARS from humans, and not the reverse as previously assumed.⁶

³ Shi Z., Hu Z. A review of studies on animal reservoirs of the SARS coronavirus. Virus Research. 2008:133:74-87.

⁴ Caldwell E. Evolutionary history of SARS supports bats as virus source. February 19, 2010. Research News. The Ohio State University. Available at http://researchnews.osu.edu/archive/SARStree.htm (last accessed September 28, 2010).

⁵ Tang X., Li G., Vasilakis N., Zhang Y., Shi Z., Zhong Y., Wang L., Zhang Z. Differential stepwise evolution of SARS coronavirus functional proteins in different host species. BMC Evolutionary Biology. 2009:9:52.

⁶ Global hot spots for emerging infectious diseases; Senior, Kathryn; The Lancet Infectious Diseases, Volume 8, Issue 4, 218-219.

3. Conclusion

CDC has determined that the 2004 notice of embargo prohibiting the importation of civets (and all members of Family: Viverridae) into the U.S. is no longer needed to protect the public's health and should therefore be rescinded. Published scientific articles have confirmed that civets are not the reservoir host for SARS-CoV-1. For these reasons, the notice of embargo prohibiting the importation of civets (and all members of Family: Viverridae) published at 69 FR3364 (Jan 23, 2004) is hereby rescinded.

Immediate Action

Effective immediately, for the reasons outlined above, HHS/CDC rescinds the following: Notice of embargo of civets (Family: Viverridae) (January 13, 2004).

David Fitter,
Director, Division of Global Migration Health Centers for Disease Control and Prevention, U.S. Department of Health and Human Services.

[FR Doc. 2025-16062 Filed 8-21-25; 8:45 am]

BILLING CODE 4163-18-P